DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF) as follows: Chapter KB, the Administration on Children, Youth and Families (ACYF), as last amended 71 FR 29649, May 23, 2006; Chapter KF, Office of Child Support Enforcement (OCSE), as last amended 67 FR 8816-02, February 26, 2002; Chapter KH, the Office of Family Assistance (OFA), as last amended 71 FR 29649, May 23, 2006; Chapter KP, Office of the Deputy Assistant Secretary for Administration (ODASA), as last amended 67 FR 54436-01, August 22, 2002; Chapter KU, Office of Head Start (OHS), as last amended 71 FR 29649, May 23, 2006; Chapter KJ, Office of Regional Operations (ORO) as last amended 62 FR 4295-01, January 29, 1997; and Chapter KD, Regions I-X as last amended 68 FR 65291-01 November 19, 2003. This Notice completes the implementation of the reorganization published in the Federal Register on May 23, 2006.

This Notice establishes the substructure(s) of the Office of Family Assistance and the Office of Head Start. It also changes the existing structures and organization of the Regional Offices and realigns some of the regional staff to make them a part of and reporting to, various Central Office components. Additionally, the reorganization revises the functions of the Regional Administrators and places them under the Office of Regional Operations (KJ).

The changes are as follows:

I. Under Chapter K, Administration for Children and Families, delete Chapter KDI-X in their entireties.

II. Under Chapter KJ, Office of Regional Operations, delete in its entirety and replace with the following:

KJ.00 Mission. The Office of Regional Operations (ORO) advises the Assistant Secretary for Children and Families on all strategic and operational activities related to implementation of the agency's national goals and priorities at the regional level. ORO oversees the performance of the Offices of the Regional Administrators (ORA) on all coordination of cross-cutting and special emphasis programs and initiatives, emergency preparedness, tribal government relations, State, and local ACF-related affairs, and administrative functions in Regions I-X, Offices of the Regional Administrators (ORA).

The ORAs are located in the ten DHHS Regional Offices: Region I (Boston), Region II (New York), Region III (Philadelphia), Region IV (Atlanta), Region V (Chicago), Region VI (Dallas), Region VII (Kansas City), Region VIII (Denver), Region IX (San Francisco), and Region X (Seattle). Each ORA, through the Director, ORO, and in coordination with ACF Program Directors, represents ACF to States, counties, cities, or towns, Territories, and Tribal governments, grantees, and public and private local organizations. The ORA coordinates issues that may have significant regional or national impact. The ORA develops plans in conjunction with the Program Directors to meet ACF goals and objectives and initiatives and participates in regional activities to inform the public about ACF programs at the regional level in coordination with the ACF Office of Public Affairs. The ORA contributes to the development of ACF national policy based on knowledge of services in the region.

KJ.10 Organization. The Office of Regional Operations (ORO) is headed by a Director who reports to the Assistant Secretary for Children and Families. The ORO is organized as follows: Office of the Director (KJA); Regional Operations Staff (KJB); Office of the Regional Administrators (KJDI-X).

KJ.20 Functions.

A. Office of the Director (KJA): The Office of the Director (OD) provides executive leadership and assistance on all strategic and operational activities related to implementation of the agency's national goals and priorities at the regional level. The Director is the principal advisor to the Assistant Secretary for Children and Families on regional matters involving special emphasis programs and initiatives, emergency preparedness, Tribal government relations, State, and local ACF partnership activities, and regional administrative functions. The Director represents the Assistant Secretary for Children and Families within DHHS and with other Federal agencies and task forces on regional activities.

The OD: (1) Oversees the Regional Administrators in administering regional activities and implementing cross-cutting program initiatives; (2) serves as a focal point for operational and long-range planning; and (3) coordinates with the ACF Central Office components to ensure that the Regional Administrators can help coordinate certain national priorities and initiatives, State, and local partnership activities, special programs, and emergency preparedness and response operations.

B. Regional Operations Staff (KJB): The Regional Operations Staff (ROS): (1) Develops and manages liaison processes between ACF Regional Offices and the Assistant Secretary for Children and Families; (2) supports the Offices of the Regional Administrators (ORA) of each region by implementing and overseeing the management systems and procedures for communication and workload that emanate from ACF national priorities and initiatives, special emphasis programs, emergency preparedness, tribal government relations, and State, and local ACF partnership activities; (3) monitors and evaluates ORA operations and makes plans for the utilization of regional resources to accomplish approved objectives; and (4) manages administrative and human resources functions; and salaries and expenses for the ORA.

C. Offices of the Regional Administrators (KJDI-X): Each of the Offices of the Regional Administrators (ORA) is headed by a Regional Administrator who reports to the Assistant Secretary for Children and Families through the Director, ORO. Each Office: (1) Helps support ACF's key national goals and priorities; (2) communicates ACF's regional interests, concerns, and relationships within the Department and among other Federal agencies and focuses on State agency culture change, more effective partnerships, and improved customer service; (3) manages special and sensitive projects; (4) serves as a focal point for public affairs and contacts with the media, public awareness activities, information dissemination, and education campaigns in coordination with the ACF Office of Public Affairs and in conjunction with the DHHS Regional Director; (5) assists the ACF Regional Administrator in the management of cross-cutting initiatives and activities among the regional components; and (6) as appropriate, and in coordination with the ACF Central Office components, assists with activities relating to developmental disabilities, refugee resettlement, economic and community development, tribal and special initiative activities.

The Regional Administrators: (1) Oversee the management of ACF regional staff in the ORA; (2) coordinate activities across regional programs; (3) ensure that goals and objectives are carried out; and (4) alert the Assistant Secretary for Children and Families through the Director, ORO, and/or Central Office ACF Program Directors to problems and issues that may have significant regional or national impact.

As requested by the Director of Regional Operations or Central Office ACF Program Directors, the ORA represents ACF at the regional level in executive communications within ACF, with the DHHS Regional Director, other DHHS Operating Divisions, other Federal agencies, and public or private local organizations.

Within the ORA, an administrative staff: (1) Develops regional work plans, in coordination with Central Office Program Directors, related to the overall ACF strategic plans, and tracks, monitors, and reports on regional progress in the attainment of ACF national goals and objectives; (2) coordinates routine budget, administrative, and human resource functions as required, including Executive Secretariat, ACF-controlled space, computer and computer peripheral equipment, and health and safety for the ORA; (3) coordinates ACF programs during emergencies in the regions, including natural disasters, pandemic flu, or other disasters; (4) serves as ACF's focal point for COOP planning, implementation, and coordination; (5) coordinates regional ACF deployments of human services assessments and action teams during State and/or Federally declared emergencies and disasters; and (6) coordinates resources for regional special emphasis activities with the DHHS Regional Director's office.

III. Under Chapter KP, Office of the Deputy Assistant Secretary for Administration, make the following changes:

A. Under KP.00 Mission, add the following:

KP.00 Mission. The Deputy Assistant Secretary for Administration serves as principal advisor to the Assistant Secretary for Children and Families on all aspects of personnel administration and management; information resource management; financial management activities; grants policy and overseeing the issuance of grants; procurement issues; staff development and training activities; organizational development and organizational analysis; administrative services; facilities management; and State systems policy. The Deputy Assistant Secretary for Administration oversees the ACF Equal Employment Opportunity and Civil Rights program and all administrative special initiative activities for ACF.

B. Under KP Organization, insert the following new component after Office of Grants Management (KPG): Grants Management Regional Units (KPGDI-X).

C. Under KP.20 Functions, insert the following component, under the Office of Grants Management (KPG):

Grants Management Regional Units (KPGDI-X): Each Grants Management Regional Unit (GMRU) is headed by a Regional Grants Management Officer who supports the Chief Grants Officer (CGO)/Deputy Assistant Secretary for Administration in fulfilling ACF's CGO responsibilities. The GMRU serves as the principal office in the region for grant activities and is responsible for: (1) Ensuring the business and financial responsibilities of grants administration are carried out; (2) providing direct administration and management of ACF discretionary, formula, entitlement, and block grants in the regions; (3) directing all grants and cooperative agreements awarded; (4) ensuring compliance with applicable statutes, regulations, and policies and performing audit resolutions; (5) providing leadership and technical guidance to ACF programs on grant operations and grants management issues; (6) interpreting and implementing financial policies, regulations, legislation, and appropriations law as they relate to grant administration; (7) securing resolution of legal matters relating to grants administration and management; (8) reviewing cost-allocation plans; (9) making recommendations to the appropriate program office (a) to approve, defer, or disallow claims for Federal financial participation in ACF formula and entitlement programs and (b) to approve or disallow costs under ACF discretionary grant programs; and (10) as applicable, making recommendations on the clearance and closure of audits of State and grantee programs, paying particular attention to deficiencies that decrease the efficiency and effectiveness of ACF programs and taking steps to resolve deficiencies. The Regional Grants Management Officer assisting the CGO/Deputy Assistant Secretary for Administration on grants management matters with the ACF Central Office, States, contractors, and grantees.

IV. Under Chapter KB, Administration on Children, Youth and Families (ACYF), make the following changes:

A. Under KB.10 Organization, add the following component after the Children's Bureau (KBD): Children's Bureau Regional Program Units (KBDDI-X).

B. Under KB.20 Functions, after the Children's Bureau (KBD), add the following new paragraph:

Children's Bureau Regional Units (KBDDI-X): The Children's Bureau (CB), Regional Program Unit, is headed by a CB Regional Program Manager who reports to the Associate Commissioner, Children's Bureau, within ACYF. The CB Regional Program Manager, through subordinate regional staff, in collaboration with program components, is responsible for: (1) Providing program and technical administration of CB formula, entitlement, block and discretionary programs related to child welfare, including child abuse and neglect, child protective services, family preservation and support, adoption, foster care and independent living; (2) collaborating with the ACF Central Office, States, and grantees on all program matters for programs or issues that have significant implications for the programs; (3) providing technical assistance to entities responsible for administering CB programs to resolve identified problems; (4) ensuring that appropriate procedures and practices are adopted; (5) working with appropriate State and local officials to develop and implement outcome-based performance measures; and (6) monitoring the programs to ensure their efficiency and effectiveness, and ensuring that these entities conform to Federal laws, regulations, policies, and procedures governing the programs.

V. Under Chapter KF, Paragraph A, Office of Child Support Enforcement (OCSE), make the following changes:

A. Amend KF.10 Organization, by adding the following component: OCSE Regional Program Units (KFADI-X).

B. Amend KF.20 Functions, Paragraph A, by adding the following new paragraph at the end of Paragraph A:

OCSE Regional Program Units (KFADI-X): Each OCSE Regional Program Unit is headed by the OCSE Regional Program Manager who reports to the Deputy Director (also known as the Commissioner, OCSE). The OCSE Regional Program Manager, through subordinate regional staff, in collaboration with program components, is responsible for: (1) Providing program and technical administration of ACF entitlement and discretionary programs related to OCSE; (2) collaborating with the ACF Central Office, States, Tribes, and other grantees on all significant program and policy matters; (3) providing technical assistance to entities responsible for administering OCSE programs to resolve identified problems; (4) ensuring that appropriate procedures and practices are adopted; (5) working with appropriate State, Tribal, and local officials to develop and implement outcome-based performance measures; and (6) monitoring the programs to ensure their efficiency and effectiveness, and ensuring that these entities conform to Federal laws, regulations, policies, and procedures governing the programs.

VI. Under Chapter KH, Office of Family Assistance, make the following changes:

A. Delete KH.10 Organization in its entirety and replace with the following:

KH.10 Organization. The Office of Family Assistance is headed by a Director who reports to the Assistant Secretary for Children and Families. The Office is organized as follows:

Office of the Director (KHA).

TANF Bureau (KHB).

Division of State and Territory TANF Management and Technical Assistance (KHB2).

Division of Data Collection and Analysis (KHB3).

Division of Tribal TANF Management (KHB4).

TANF Bureau Regional Program Units (KHBDI-X).

Child Care Bureau (KHJ).

Division of Technical Assistance (KHJ1).

Division of Program Operations (KHJ2).

Division of Policy (KHJ3).

Child Care Bureau Regional Program Units (KHJDI-X).

B. Delete Paragraph, KH.20 functions in its entirety and replace with the following:

KH.20 Functions.

A. Office of the Director (KHA): The Office of the Director is directly responsible to the Assistant Secretary for Children and Families for carrying out OFA's mission and providing direction, leadership, guidance, and general supervision to the principal components of OFA. The Deputy director assists the director in carrying out the responsibilities for the Office. The Associate Director for the TANF Bureau and the Associate Director for the Child Care Bureau report to the OFA Director. The Office: (1) provides public information services by responding to inquiries from the public and private sectors from both domestic and international entities via written and electronic communication; (2) coordinates and organizes the printing and distribution of policy and guidance documents and responds to Freedom of Information Act requests; (3) manages the formulation and execution of the budgets for OFA programs and for Federal administration; (4) serves as the focal point for operational and long-range planning; (5) functions as Executive Secretariat for OFA, including managing correspondence, correspondence systems, and electronic mail requests; and (6) provides management and administrative services and advice, by coordinating human resources activities, developing policy and procedures relating to these activities.

B. TANF Bureau (KHB): The TANF Bureau is headed by the Associate Director for TANF and reports to the Director on issues regarding temporary assistance, self-sufficiency, Native Employment Works (NEW), healthy marriage, and responsible fatherhood. The Associate Director for TANF serves as the principal advisor to the Director on issues regarding TANF and related programs. The Bureau has primary responsibility for the administration of the programs authorized under titles IV-A and XVI of the Social Security Act: (1) Develops legislative, regulatory, and budgetary proposals; (2) presents operational planning objectives and initiatives related to welfare reform to the Director; (3) oversees the progress of approved activities; (4) provides leadership and coordination for welfare reform within ACF; and (5) provides leadership and linkages with other agencies on welfare reform issues, including agencies within DHHS, relevant agencies across the Federal, State, local, and Tribal governments, and non-governmental organizations at the Federal, State, local, and Tribal governments, ,and non-governmental organizations at the Federal, State, and local levels.

1. Division of State TANF Policy (KHB1): The Division of State TANF Policy (DSTP): (1) Provides direction and guidance in the nationwide administration of the Temporary Assistance for Needy Families programs, and the Aid to the Aged, Blind, and Disabled program in Guam, Puerto Rico and the Virgin Islands, under titles IV-A and XVI of the Social Security Act; (2) ensures compliance with Federal laws and regulations; (3) proposes and reviews legislation and implements national policy, develops regulations to implement new laws and prepares policy interpretations; (4) provides guidance and direction, and analyzes, tracks, and disseminates information on State progress in achieving work participation goals; (5) shapes and facilitates communication between Federal, State, and local entities to coordinate cross-cutting welfare-to-work-related policies; (6) collaborates with the ACF and DHHS components on related programs, such as Head Start and programs related to child welfare; (7) develops State plan procedures and evaluates State TANF plans with internal and external collaboration to identify critical issues contained in the plans and amendments; (8) prepares Congressional materials, testimonies, and speeches; and (9) collaborates with and provides program guidance to the Office of the General Counsel on litigation.

2. Division of State and Territory TANF Management and Technical Assistance (KHB2): The Division of State and Territory TANF Management and Technical Assistance (DSTMTA): (1) Provides technical assistance to States, Territories, localities, community groups, and healthy marriage and responsible fatherhood grantees; (2) assists in the assessment of State and Territorial performance in administering the TANF program and the Aid to the Aged, Blind and Disabled program in Guam, Puerto Rico and the Virgin Islands; (3) recommends and promotes improvements in outcomes for clients, and oversees and monitors the healthy marriage and responsible fatherhood grants; (4) develops and implements strategies to assist grantees in implementing and designing programs to meet TANF purposes; (5) develops and delivers technical assistance, focusing on innovative policy and program design approaches, to improve the well-being of children; (6) facilitates closer working relationships with State programs and program officials to help States improve their TANF programs; (7) promotes cross-program policy initiatives to self-sufficiency and family-focused services; (8) collaborates with ACF and DHHS components and other Federal agencies to deliver family-focused services; (9) promotes job development through agreements with other Federal agencies and corporations; (10) identifies best practices and shares information through conferences, publications, and other means; (11) establishes strong working partnerships with States, Tribes, and Territories to help them build management capacity and skills to improve the performance of the TANF programs; (12) compiles, analyzes, evaluates, and disseminates information on implementation and strategies in the TANF program and other related welfare programs in the United States, including information on pertinent statutes, regulations, program instructions, and guidance; (13) serves as a catalyst to connect other relevant national, Federal, State, and local organizations to operate more effectively, and to share resources and information relative to increasing the economic self-sufficiency of low-income families; and (14) is responsible for updating contracted web sites to provide easy access, targeting and focused useful information, and customer-friendly organization and search capabilities.

3. Division of Data Collection and Analysis (KHB3): The Division of Data Collection and Analysis (DDCA): (1) Is responsible for all aspects of the collection, compilation, analysis, and dissemination of statistical and financial data ont eh TANF program and the Aid to the Aged, Blind and Disabled programs in Guam, Puerto Rico, and the Virgin islands; (2) develops regulations to implement data collection requirements; (3) designs, develops, implements, and maintains systems for the collection and analysis of data, including participation rate information, recipient characteristics, financial and administrative data, State expenditures on families, work activities of non-custodial parents, transitional services, and data used in the assessment of State performance; (4) provides leadership and coordinates with other ACF and DHHS offices and external organizations in the use of these data for policy and research purposes; and (5) develops and maintains statistical protocols and manuals for data collection purposes and provides technical assistance in the use of these materials.

4. Division of Tribal TANF Management (KHB4): The Division of Tribal TANF Management (DTTM) is responsible for: (1) Assisting in implementation and coordination of ongoing consultation with Tribal governments and, where appropriate, State and Federal agencies regarding issues relating to the TANF and the NEW program and related legislation; (2) developing regulations and guidelines for Tribal employment programs and for providing leadership, policy direction, technical assistance, and coordination of Tribal services programs; (3) performing inter- and intra-agency liaison functions to promote family stability, economic security, responsibility and self-support for Native Americans; (4) conducting program reviews to ensure compliance with the Social Security Act, regulations, and policy directives; and (5) carrying out activities related to Tribal data collection reporting requirements relating to the programs.

5. TANF Bureau Regional Program Units (KHBDI-X): Each TANF Regional Program Unit is headed by a TANF Regional Program Manager who reports to the Associate Director, TANF, within OFA. The Regional Program Manager, through subordinate regional staff, in collaboration with program components, is responsible for: (1) Providing program and technical administration of the TANF block grant; (2) collaborating with the ACF Central Office, States, and other grantees on all significant policy matters; (3) providing technical assistance to entities responsible for administering ACF programs to resolve identified problems; (4) ensuring that appropriate procedures and practices are adopted; (5) working with appropriate State, Tribal, and local officials to develop and implement outcome-based performance measures; and (6) monitoring the programs to ensure their efficiency and effectiveness, and ensuring that these entities conform to Federal laws, regulations, policies, and procedures governing the programs.

C. Child Care Bureau (KHJ): The Child Care Bureau (CCB) is headed by the Associate Director for CCB who reports to the Director on issues regarding child care and early education programs, including the twin goals of improving support for working families and promoting the healthy development, school readiness, and school success for children in child care. The Associate Director for Child Care serves as the principal advisor to the Director on issues regarding child care programs. The CCB has primary responsibility for: (1) Overseeing the operation of child care programs authorized under the Child Care and Development Block Grant (CCDBG) Act and section 418 of the Social Security Act; (2) developing legislative, regulatory, and budgetary proposals; (3) presenting operational planning objectives and initiatives related to child care to the Director, and oversees the progress of approved activities; (4) providing leadership and coordination for child care within ACF and linkages with other agencies on child care issues, including agencies within DHHS, relevant agencies across the Federal, State, local, and Tribal governments, and non-governmental organizations at the Federal, State, and local levels; and (5) overseeing the leadership, planning, and management of the Bureau's mission and activities. The data gathering, analysis, and dissemination; preparation of reports; budget projection, planning, execution, and tracking; research development and communication of findings; identification and utilization of new technology in managing CCB's workload and communicating with the Department, Regional Program Units, States, Territories, Tribes, and the child care field; the Immediate Office also supports the unique program and planning needs of Tribal grantees.

1. Division of Technical Assistance (KHJ1): The Division of Technical Assistance (DTA): (1) Provides technical assistance to Regional Program Units, States, Territories, and Tribes concerning the administration of the Child Care and Development Fund (CCDF); (2) provides strategic leadership, coordination, and grant and contract oversight for technical assistance projects that comprise the Child Care Technical Assistance Network; (3) oversees technical assistance events, such as peer learning roundtables, forums, and conferences; (4) uses publications, multimedia tools, and comprehensive Internet resources to communicate with CCDF grantees, national, State, and local child care organizations, and the general public about the latest developments in the child care field; (5) works closely with State, Tribal and Territorial CCDF Lead Agencies to assess their technical assistance needs and tailor responses that reflect State, Tribal, and Territorial flexibility; (6) supports the ability of grantees to find innovative solutions and uses its contracts, events, and publications to recognize and promote replication of effective practices; (7) supports the use of research in CCDF implementation through links with the Child Care Bureau's Division of Policy and with State agencies; (8) forges partnerships with public and private organizations to improve the ability of child care systems to respond effectively to the needs of low-income working families; and (9) works in partnerships across programs to establish effective, diversified systems of care that meets the unique developmental needs of infants and toddlers, preschool children, and school age children. Key partners include State early childhood programs, Head Start, and the U.S. Department of Education, which work together to coordinate early childhood programs and create a diversified system that promotes school readiness across all preschool settings.

2. Division of Program Operations (KHJ2): The Division of Program Operations (DPO) is responsible for: (1) Regional liaison activities, including communicating on a regular basis with Regional Program Unit staff, including oversight of the review and approval process for the Biennial CCDF Plans of States, Territories, and Tribes, responding to questions on policy and other issues by consulting or referring to other staff; (2) tracking progress of grantee programs in coordination with the regions; (3) collecting and maintaining information related to grantee program implementation, management and accountability measures, and technical assistance efforts; (4) tracking program achievements, problems, and gaps; (5) identifying latest trends and activities of major significance; (6) preparing background material, fact sheets, and reports to provide information to the Regional Program Unites, grantees, and the general public; (7) tracking and supporting special initiatives; (8) establishing partnerships with public and private entities to improve access to quality child care; (9) coordinating program activities with other government and non-government agencies; and (10) managing and overseeing cooperative ventures with other entities.

3. Division of Policy (KHJ3): The Division of Policy (DP): (1) Develops, interprets, and issues national policies and regulations governing CCDF programs (2) provides clarification of the statutes, regulations, and policies; (3) issues action transmittals and information memoranda; (4) recommends and drafts legislative and budgetary proposals; (5) prepares Congressional reports and briefing materials for hearings and testimony; (6) works with Division of Program Operations to update the Biennial Child Care Plan Preprints; (7) reviews and gives guidance to the Regional Program Units on CCDF plans and applications; (8) researches child care policy issues; (9) coordinates policies and procedures with other Federal agencies; (10) provides policy training, guidance, and clarification to the Regional Program Units in carrying out policy functions; and (11) manages controlled correspondence.

4. Child Care Bureau Regional Program Units (KHJDI-X): Each CCB Regional Program Units is headed by a CCB Regional Program Manager who reports to the Associate Director, CCB within OFA. The Regional Program Manager, through subordinate regional staff, in collaboration with program components, is responsible for: (1) Providing program and technical administration of ACF block and discretionary programs related to CCB; (2) collaborating with the ACF Central Office, States, and other grantees on all significant policy matters; (3) providing technical assistance to entities responsible for administering ACF programs to resolve identified problems; (4) ensuring that appropriate procedures and practices are adopted; (5) working with appropriate State, Tribal, and local officials to develop and implement outcome-based performance measures; and (6) monitoring the programs to ensure their efficiency and effectiveness, and ensuring that these entities conform to Federal laws, regulations, policies, and procedures governing the programs.

VII. Under Chapter, KU, Office of Head Start, Delete in Its Entirety and Replace With the Following

KU.00 Mission. The Office of Head Start (OHS) advises the Assistant Secretary for Children and Families on issues regarding the Head Start program (including Early Heat Start). The Office develops legislative and budgetary proposals; identifies areas for research, demonstration and developmental activities; presents operational planning objectives and initiatives relating to Head Start to the Assistant Secretary for Children and Families; and oversees the progress of approved activities. It provides leadership and coordination for the activities of the Head Start program in the ACF Central Office including the Head Start Regional Program Units, The Office represents Head Start in inter-agency activities with other Federal and non-Federal organizations.

KU.10 Organization. The Office of Head Start is headed by a Director who reports directly to the Assistant Secretary for Children and Families and consists of the following components:

Immediate Office of Head Start (KUA).

Program Operations Division (KUB).

Head Start Regional Program Units (KUBDI-X).

Educational Development and Partnership Division (KUC).

Quality Assurance Division (KUE).

Policy and Budget Division (KUF).

KU.20 Functions.

A. Immediate Office of Head Start (KUA): The Immediate Office of Head Start (KUA) serves as the principal advisor to the Assistant Secretary for Children and Families, the Secretary, and other officials within the Department on the administration of discretionary grant programs providing Head Start Services. The Deputy Director assists the Director in carrying out the responsibilities of the Office. Within the Office, the administrative staff supports the Director and Deputy Director in: (1) Managing the formulation and execution of the budgets for OHS programs and for Federal administration; (2) serving as the focal point for operational and long-range planning; (3) functioning as Executive Secretariat for OHS, including managing correspondence, correspondence systems, and electronic mail requests; (4) providing management and administrative services and advice, by coordinating human resources activities, providing guidance on financial management activities, including budget, and as appropriate developing policy and procedures relating to these activities.

B. Program Operations Division (KUB): The Program Operations Division (POD) advises the Office of Head Start Director on all strategic and operational activities related to implementation of the agency's programs in both Central and Regional Offices. POD is responsible for: (1) The American Indian and Alaska Natives and Migrant and Seasonal farmworkers Head Start programs administered within Central Office which serve grantees, including Territories, Tribes, and public/private non-profit agencies, and is responsible for: (a) Managing the American Indian and Alaska Native and migrant and seasonal farm workers Head Start programs; (b) reviewing applications for programs serving American Indian and Alaska Native children and children of migratory and seasonal farmworkers; (c) monitoring and assessing the programs and assuring provision of training and technical assistance to all Head Start programs funded for the children of American Indian and Alaska Native and migrants and seasonal farmworkers; (d) analyzing and ensuring consideration of the needs of American Indian and Alaska Natives and migrant and seasonal farmworkers' children; and (e) coordinating with other agencies and organizations serving American Indian and Alaska Natives and migrant and seasonal farmworkers' children; and (2) the Head Start regional programs administered by the Head Start Regional Program Units.

1. Head Start Regional Program Units (KUDBI-X): Each Head Start Regional Program Unit is headed by a Head Start Regional Program Manager who reports to the POD, in OHS.

The Regional Program Manager, through subordinate regional staff, in collaboration with program components, is responsible for: (1) Providing program and technical administration of ACF discretionary programs related OHS; (2) collaborating with OHS States Collaboration Projects on all significant policy matters; (3) providing technical assistance to entities responsible for administering OHS programs to resolve identified problems; (4) ensuring that appropriate procedures and practices are adopted; (5) working with appropriate State and local officials to develop and implement outcome-based performance measures; and (6) monitoring the programs to ensure their efficiency and effectiveness, and ensuring that these entities conform to Federal laws, regulations, policies, and procedures governing the programs. The Head Start Regional Program Unit: (1) Guides the day-to-day management of Head Start programs in its jurisdictions; (2) provides technical assistance, resources, and information to the various entities responsible for administering these programs; and (3) represents Head Start to State, county, city, and Tribal governments, grantees, and public and private organizations.

C. Educational Development and Partnership Division (KUC); The Educational Development and Partnership Division (EDPD): (1) Provides technical expertise in the areas of Head Start education from birth to age five, health (medical, dental, mental health, and nutrition), family and community partnerships, parent involvement, and disability services for Head Start program staff; (2) recommends and establishes policy in these areas; (3) recommends strategies for achieving quality services; (4) develops guidance, and other policy materials aimed at improving grantee performance; (5) develops areas for research and demonstration activities to improve the quality and levels of services provided to Head Start children; (6) manages discretionary projects; and (7) develops training and technical assistance strategies to improve the Head Start programs' performance in specific component areas.

D. Quality Assurance Division (KUE): The Quality Assurance Division (QAD): (1) Develops and coordinates program and administrative management regulations and policy for the Head Start program, provides guidance to the Head Start Regional Program Units in carrying out these policies and monitors their implementation; (2) designs and oversees a national system for program monitoring and quality improvement and manages discretionary projects that are designed to investigate and improve the operation and management of the Head Start program; (3) plans and manages training and technical assistance activities in Head Start; and (4) manages national data collection and analysis for the Head Start program.

E. Policy and Budget Division (KUF): The Policy and Budget Division (PBD): (1) Provides leadership in the development of regulations, budget, and policy, ensuring consistency in these areas with ACF's and the Department's vision and goals; (2) is responsible for budget development and budget execution, policy development and interpretation of any legislation impacting the Head Start program and for the Office of Head Start's regulatory agenda; and (3) serves as the primary contact for ACF on all legislative, budget development and execution, and regulatory activities related to Head Start.

VIII. Continuation of Policy

Except as inconsistent with this reorganization, all statements of policy and interpretations with respect to organizational components affected by this notice within the Administration for Children and Families, heretofore issued and in effect on this date of this reorganization are continued in full force and effect.

IX. Delegation of Authority

All delegations and redelegations of authority made to officials and employees of affected organizational components will continue in them or their successors pending further redelegations, provided they are inconsistent with this reorganization.

X. Funds, Personnel, and Equipment

Transfer of organizations and functions affected by this reorganization shall be accompanied in each instance by direct and support funds, positions, personnel, records, equipment, supplies, and other resources.

This reorganization will be effective October 1, 2006.

Dated: September 26, 2006.
Michael O. Leavitt,
Secretary.

[FR Doc. 06-8536 Filed 10-5-06; 8:45 am]

BILLING CODE 4184-01-M